DEPARTMENT OF COMMERCE

National Oceanic and Atmospheric Administration

RIN 0648-XA60

Marine Mammals; File No. 1070-1783

AGENCY: National Marine Fisheries Service (NMFS), National Oceanic and Atmospheric Administration (NOAA), Commerce.

ACTION: Notice; issuance of permit amendment.

SUMMARY: Notice is hereby given that Dr. Alejandro Acevedo-Gutiérrez has been issued an amendment to scientific research Permit No. 1070-1783-01.

ADDRESSES: The amendment and related documents are available for review upon written request or by appointment in the following office(s):

Permits, Conservation and Education Division, Office of Protected Resources, NMFS, 1315 East-West Highway, Room 13705, Silver Spring, MD 20910; phone (301)713-2289; fax (301)427-2521 and

Northwest Region, NMFS, 7600 Sand Point Way NE, BIN C15700, Bldg. 1, Seattle, WA 98115-0700; phone (206)526-6150; fax (206)526-6426.

FOR FURTHER INFORMATION CONTACT: Jaclyn Daly or Tammy Adams, (301)713-2289.

SUPPLEMENTARY INFORMATION: On June 1, 2007, notice was published in the Federal Register (72 FR 30553) that an amendment of Permit No. 1070-1783-01, issued September 5, 2006 (71 FR 53423), had been requested by the above-named individual. The requested amendment has been granted under the authority of the Marine Mammal Protection Act of 1972, as amended (16 U.S.C. 1361 et seq.), and the regulations governing the taking and importing of marine mammals (50 CFR part 216).

The permit has been amended to increase the number of harbor seals (Phoca vitulina) that may be harassed annually during scat collection on haul-out sites in Washington. The objective of the research remains the same: to study temporal and spatial variation in numbers and diet composition of harbor seals to determine responses of harbor seals to changes in prey density and the impact of seal behavior on marine protected areas. The permit amendment is valid through March 2011.

In compliance with the National Environmental Policy Act of 1969 (42 U.S.C. 4321 et seq.), a final determination has been made that the activity proposed is categorically excluded from the requirement to prepare an environmental assessment or environmental impact statement.

Dated: August 8, 2007.
Tammy C. Adams,
Acting Chief, Permits, Conservation and Education Division, Office of Protected Resources, National Marine Fisheries Service.

[FR Doc. E7-15927 Filed 8-13-07; 8:45 am]

BILLING CODE 3510-22-S